SOCIAL SECURITY ADMINISTRATION

Agency Information Collection Activities: Emergency Consideration Request

In compliance with Public Law 104-13, the Paperwork Reduction Act of 1995, the Social Security Administration (SSA) is providing notice of its information collections that require submission to the Office of Management and Budget (OMB). SSA is requesting emergency consideration from OMB by 12/06/2000 of the information collections listed below.

1. Beneficiary Interview and Auditor's Observations Form-0960-NEW.

The information collected through the Beneficiary Interview and Auditor's Observations form, SSA-322, will be used by SSA's Office of the Inspector General (OIG) to interview beneficiaries and/or their caregivers to determine whether representative payees are complying with their duties and responsibilities. Respondents to this collection will be randomly selected Supplemental Security Income recipients and Social Security beneficiaries that have representative payees.

Number of Respondents: 150.

Frequency of Response: 1.

Average Burden Per Response: 15 minutes.

Estimated Annual Burden: 38 hours.

Background Information

In May of this year Congress held hearings on SSA's representative payee program. These hearings were the result of an investigation conducted by SSA's OIG involving a representative payee who embezzled over $300,000 of Social Security payments, and recent media attention. Following these hearings SSA began a number of initiatives to improve oversight of representative payees. One of the initiatives requested by Congress was for OIG to perform audits of representative payees. Specifically, Congress requested an independent OIG review and assessment of SSA's representative payee program. In conjunction with this oversight, Congress has further advised SSA that briefings on the representative payee program are expected and additional congressional hearings are planned in early spring. This information collection is therefore necessary to comply with the congressional reporting requirements in a timely manner and to augment other data needed for determining whether representative payees are complying with their duties.

You can obtain a copy of the collection instruments and/or OMB clearance packages by calling the SSA Reports Clearance Officer on (410) 965-4145, or by writing to him.

SSA Address

Social Security Administration, DCFAM, Attn: Frederick W. Brickenkamp, 6401 Security Blvd., 1-A-21 Operations Bldg., Baltimore, MD 21235

Dated: November 20, 2000.
Frederick W. Brickenkamp,
Reports Clearance Officer.

[FR Doc. 00-30082 Filed 11-24-00; 8:45 am]

BILLING CODE 4120-29-U